DEPARTMENT OF THE INTERIOR

National Park Service

[NPS-WASO-NRNHL-DTS#-37326; PPWOCRADI0, PCU00RP14.R50000]

National Register of Historic Places; Notification of Pending Nominations and Related Actions

AGENCY: National Park Service, Interior.

ACTION: Notice.

SUMMARY: The National Park Service is soliciting electronic comments on the significance of properties nominated before January 27, 2024, for listing or related actions in the National Register of Historic Places.

DATES: Comments should be submitted electronically by March 4, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 27,2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

GEORGIA

Richmond County

Augusta Warehouse and Compress Company, 1812 Slaton Street, Augusta, SG100010016

INDIANA

Carroll County

South Delphi Historic District, Roughly bounded by the north boundary of Riley Park on the north, Prince William Road on the northeast, the alley south of Summit Street on the southeast, and Wabash Street and the west boundary of Riley Park on the south and southwest, Delphi, SG100010027

Fulton County

Akron Historic District, Roughly both sides of Rochester Street between Marcus Street to the west and State Road 14 North to the east and both sides of Mishawaka Street between North Street to the north and Rochester Street to the south, Akron, SG100010028

Jackson County

Crothersville Independent Order of Oddfellows (IOOF) Lodge, 121 East Howard Street, Crothersville, SG100010030

Marion County

United States Corrugated-Fibre Box Company Plant, 1411 Roosevelt Avenue, Indianapolis, SG100010031

Shelby County

Messick Masonic Temple, 519 South Harrison Street, Shelbyville, SG100010029

KANSAS

Douglas County

First Presbyterian Church, 2415 Clinton Parkway, Lawrence, SG100010035

MISSISSIPPI

Quitman County

Marks Downtown Historic District, Main, Chestnut, Peach, Maple, Poplar, Walnut, Third, First, and Lamar/Pecan Streets, Marks, SG100010020

NEW YORK

Columbia County

Philmont Historic District, Ark St., Band St., Block St., Canal St., Church St., Columbia Ave., Eagle St., Ellsworth St., Elm St., Garden St., Main St., Maple Ave., Philmont, SG100010025

Monroe County

Azalea-Highland Park Terrace Historic District, Portions of Meadowbrook, Azalea, Laney, Arbor Roads and Highland & Elmwood Avenues, Rochester, SG100010023

Onondaga County

Marshall & Son Warehouse, 1 Webster's Landing, Syracuse, SG100010024

OHIO

Lucas County

Spicer Manufacturing Building, 4100 Bennett Road, Toledo, SG100010036

Muskingum County

New Concord-Union High School, 4 Stormont Street, New Concord, SG100010018

PUERTO RICO

San Juan Municipality

Casa Gonzalez Cuyar, #225 Calle del Parque, San Juan, SG100010033

TEXAS

Harris County

Sills Building, 5804 Canal Street, Houston, SG100010026

Travis County

West Downtown Austin Historic District, Roughly bounded by W. 15th Street {north}, San Antonio/Nueces Streets (east), W. 7th Street {south), and West Avenue/Shoal Creek (west), Austin, SG100010021

A request for removal has been made for the following resource(s):

INDIANA

Boone County

Scotland Bridge, Lost Rd. (Co. Rd. 200 E) over Sugar Cr., Mechanicsburg vicinity, OT94000228

Additional documentation has been received for the following resource(s):

HAWAII

Honolulu County

St. Andrew's Cathedral (Additional Documentation), Beretania St. (Queen Emma Sq.), Honolulu, AD73000663

TENNESSEE

Bedford County

Bedford County Jail (Additional Documentation), 210 N. Spring Street, Shelbyville, AD75001728

River Side Farmhouse (Additional Documentation), 497 Shofner Rd., Shelbyville vicinity, AD97001501

De Kalb County

Alexandria Cemeteries Historic District (Additional Documentation), (Rural African-American Churches in Tennessee MPS), Cemetery St., Alexandria, AD02000584

Hamilton County

Brabson House (Additional Documentation), 407 E. 5th St., Chattanooga, AD73001772

Old Post Office (Additional Documentation), 31 E. 11th Street, Chattanooga, AD73001777

James County Courthouse (Additional Documentation), 9508 Church Street, Ooltewah, AD76001782

Trigg-Smartt Building (Additional Documentation), 701—707 Broad St., Chattanooga, AD86001383

Knox County

Seven Islands Methodist Church (Additional Documentation), (Knoxville and Knox County MPS), 8100 Seven Islands Rd., Knoxville vicinity, AD97000244

Sevier County

Harrisburg Covered Bridge (Additional Documentation), S of Harrisburg off U.S. 411 over East Fork of Little Pigeon River, Harrisburg vicinity, AD75001777

Weakley County

Sims, Capt. William, House (Additional Documentation), 1912 Liberty Road, Greenfield vicinity, AD82004066

Authority: Section 60.13 of 36 CFR part 60.

Sherry A. Frear,
Chief, National Register of Historic Places/National Historic Landmarks Program.

[FR Doc. 2024-03244 Filed 2-15-24; 8:45 am]

BILLING CODE 4312-52-P